DEPARTMENT OF ENERGY

Federal Energy Regulatory Commission

[Docket No. RP00-260-003]

Texas Gas Transmission Corporation; Notice of Proposed Changes in FERC Gas Tariff

October 4, 2000.

Take notice that on September 27, 2000, Texas Gas Transmission Corporation (Texas Gas) tendered for filing as part of its FERC Gas Tariff, First Revised Volume No. 1, Thirteenth Revised Sheet No. 13, with an effective date of June 1, 2000.

Texas Gas states that the filing is being made because Texas Gas's April 28, 2000, filing inadvertently omitted Thirteenth Revised Sheet No. 13 reflecting the revised rates for Rate Schedules FFS and ISS as presented on Schedule J-2, Parts 28 and 29, respectively, of the above referenced filing. Texas Gas respectfully requests that the tariff sheet be accepted for filing and be subject to the provisions of the Commission's May 31, 2000 “Order Accepting and Suspending Tariff Sheets Subject to Refund and Conditions, Rejecting Other Tariff Sheets, and Establishing a Hearing and Settlement Procedures,” 91 FERC ¶ 61,215 (2000) which includes being suspended and permitted to become effective November 1, 2000, subject to refund, and subject to the conditions set forth in the body of the order.

Texas Gas states that copies of the filing have been served upon Texas Gas's jurisdictional customers, interested state commissions, and all parties appearing on the official restricted service list in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call (202-208-2222 for assistance).

Linwood A. Watson, Jr.,
Acting Secretary.

[FR Doc. 00-26044 Filed 10-10-00; 8:45 am]

BILLING CODE 6717-01-M